DEPARTMENT OF AGRICULTURE

Food Safety and Inspection Service

[Docket No. FSIS-2013-0003]

Availability of FSIS Compliance Guide for a Systematic Approach to the Humane Handling of Livestock

AGENCY: Food Safety and Inspection Service, USDA.

ACTION: Notice of availability and opportunity for comments.

SUMMARY: The Food Safety and Inspection Service (FSIS) is announcing the availability of a compliance guide to assist livestock slaughter establishments in complying with the regulatory requirements for humane handling and slaughter of livestock. FSIS encourages operators of livestock slaughter establishments to follow this guidance.

DATES: The Agency must receive comments by December 30, 2013.

ADDRESSES: A downloadable version of the compliance guide is available to view and print at http://www.fsis.usda.gov/wps/portal/fsis/topics/regulatory-compliance. No hard copies of the compliance guide have been published.

FSIS invites interested persons to submit comments on this notice. Comments may be submitted by either of the following methods:

Federal eRulemaking Portal: This Web site provides the ability to type short comments directly into the comment field on this Web page or attach a file for lengthier comments. Go to http://www.regulations.gov/. Follow the on-line instructions at that site for submitting comments.

Mail, including CD-ROMs, etc.: Send to Docket Room Manager, U.S. Department of Agriculture, Food Safety and Inspection Service, Patriots Plaza 3, 1400 Independence Avenue SW., Mailstop 3782, Room 8-163B, Washington, DC 20250-3700.

Hand- or courier-delivered submittals: Deliver to Patriots Plaza 3, 355 E. Street SW., Room 8-163B, Washington, DC 20250-3700.

Instructions: All items submitted by mail or electronic mail must include the Agency name and docket number FSIS-2013-0003. Comments received in response to this docket will be made available for public inspection and posted without change, including any personal information, to http://www.regulations.gov.

Docket: For access to background documents or to comments received, go to the FSIS Docket Room at Patriots Plaza 3, 355 E. Street SW., Room 8-164, Washington, DC 20250-3700 between 8:00 a.m. and 4:30 p.m., Monday through Friday.

FOR FURTHER INFORMATION CONTACT: Rachel Edelstein, Assistant Administrator, Office of Policy and Program Development; Telephone: (202) 205-0495, or by Fax: (202) 720-2025.

SUPPLEMENTARY INFORMATION: The Humane Methods of Slaughter Act (HMSA) of 1978 (7 U.S.C. 1901 et seq.) requires the use of humane methods for handling and slaughtering livestock. The HMSA states that “the use of humane methods in the slaughter of livestock prevents needless suffering; results in safer and better working conditions for persons engaged in the slaughtering industry; brings about improvement of products and economies in slaughtering operations; and produces other benefits for producers, processors, and consumers which tend to expedite an orderly flow of livestock and livestock products in interstate and foreign commerce.”

The HMSA is referenced in the Federal Meat Inspection Act (FMIA) (21 U.S.C. 603) and is implemented by FSIS humane handling and slaughter regulations found at 9 CFR part 313. Establishments are required to meet the humane handling and slaughter requirements in the regulations the entire time they hold livestock in connection with slaughter.

On September 9, 2004, FSIS announced that livestock slaughter establishments should implement and maintain a systematic approach to humane handling and slaughter to best ensure compliance with the HMSA, FMIA, and the implementing regulations (69 FR 54625). A systematic approach is a comprehensive way of evaluating how livestock enter and move through an establishment. The 2004 notice outlined four steps establishments should take to develop and maintain a systematic approach. The guidance summarizes these four steps and states that under a systematic approach, establishments should:

(1) Assess the ability of their livestock handling and slaughter practices to minimize distress and injury to livestock;

(2) Design facilities and implement handling practices that minimize distress and injury to livestock;

(3) Periodically evaluate facilities and handling methods to ensure that they continue to minimize distress and injury to livestock; and

(4) When necessary, modify facilities and handling methods to ensure that they continue to minimize distress and injury to livestock.

The guidance also explains that if an establishment takes this systematic approach and incorporates three additional features, FSIS would consider it a “robust” systematic approach. These three features are:

(1) The establishment develops written procedures that it will implement to stay in compliance with the regulations or to come back into compliance should it fail to implement the program as written or fail to prevent noncompliance;

(2) The establishment maintains written records that demonstrate that the program is being implemented as written, and that the program is effectively preventing identified potential noncompliances; and

(3) These written procedures and records are made available for FSIS review upon request.

FSIS believes developing a written plan is a step toward a robust systematic approach to humane handling because a written plan can effectively address the four aspects of a systematic approach.

The Agency has developed a compliance guide to assist establishments in developing, implementing, and maintaining a systematic approach to humane handling and slaughter of livestock to comply with the regulatory requirements. Although the guide sets out recommendations rather than requirements, FSIS encourages livestock slaughter establishments to follow this guidance. This guide represents FSIS's thinking, and FSIS will update it as necessary to reflect comments received any additional information that becomes available.

USDA Nondiscrimination Statement

The U.S. Department of Agriculture (USDA) prohibits discrimination in all its programs and activities on the basis of race, color, national origin, gender, religion, age, disability, political beliefs, sexual orientation, and marital or family status. (Not all prohibited bases apply to all programs.)

Persons with disabilities who require alternative means for communication of program information (Braille, large print, audiotape, etc.) should contact USDA's Target Center at (202) 720-2600 (voice and TTY).

To file a written complaint of discrimination, write USDA, Office of the Assistant Secretary for Civil Rights, 1400 Independence Avenue SW., Washington, DC 20250-9410 or call (202) 720-5964 (voice and TTY). USDA is an equal opportunity provider and employer.

Additional Public Notification

FSIS will announce this notice online through the FSIS Web page located at http://www.fsis.usda.gov/wps/portal/fsis/topics/regulations/federal-register.

FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. In addition, FSIS offers an electronic mail subscription service which provides automatic and customized access to selected food safety news and information. This service is available at http://www.fsis.usda.gov/wps/portal/fsis/programs-and-services/email-subscription-service. Options range from recalls to export information to regulations, directives, and notices. Customers can add or delete subscriptions themselves, and have the option to password protect their accounts.

Done at Washington, DC, on: October 23, 2013.
Alfred V. Almanza,
Administrator.

[FR Doc. 2013-25373 Filed 10-28-13; 8:45 am]

BILLING CODE 3410-DM-P